DEPARTMENT OF COMMERCE

Foreign-Trade Zones Board

[Order No. 1663]

Approval for Subzone Expansion and Expanded Manufacturing Authority; Foreign-Trade Subzone 119B, Uponor, Inc. (Polyethylene Tubing); Apple Valley, MN

Pursuant to its authority under the Foreign-Trade Zones Act of June 18, 1934, as amended (19 U.S.C. 81a-81u), the Foreign-Trade Zones Board (the Board) adopts the following Order:

Whereas, the Greater Metropolitan Area Foreign-Trade Zone Commission, grantee of Foreign-Trade Zone 119 (Minneapolis, Minnesota), has submitted a request on behalf of Uponor, Inc. (Uponor), operator of Subzone 119B at the Uponor polyethylene tubing manufacturing and distribution facilities in Apple Valley, Minnesota, to expand and reorganize the subzone and to expand the scope of FTZ manufacturing authority to include new production capacity (FTZ Docket 61-2008, filed 10-28-08);

Whereas, notice inviting public comment has been given in the Federal Register (73 FR 65582, 11-4-08) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand and reorganize the subzone and to expand the scope of FTZ manufacturing authority within Subzone 119B, as described in the application and Federal Register notice, is approved, subject to the FTZ Act and the Board's regulations, including Section 400.28.

Signed at Washington, DC, February 5, 2010.
Ronald K. Lorentzen,
Deputy Assistant Secretary for Import Administration, Alternate Chairman, Foreign-Trade Zones Board.
Andrew McGilvray,
Executive Secretary.

[FR Doc. 2010-4052 Filed 2-25-10; 8:45 am]

BILLING CODE 3510-DS-P